DEPARTMENT OF COMMERCE

International Trade Administration

[A-580-807]

Polyethylene Terephthalate Film from Korea; Continuation of Antidumping Duty Order

AGENCY: Import Administration, International Trade Administration, Department of Commerce.

SUMMARY: As a result of the determinations by the Department of Commerce (the Department) and the International Trade Commission (ITC) that revocation of the antidumping duty order on polyethylene terephthalate (PET) film from Korea would likely lead to continuation or recurrence of dumping and material injury to an industry in the United States, the Department is publishing this notice of continuation of this antidumping duty order.

EFFECTIVE DATE: October 20, 2005.

FOR INFORMATION CONTACT: Dana Mermelstein or Robert James, AD/CVD Operations, Offices 6 and 7, Import Administration, International Trade Administration, U.S. Department of Commerce, 14th Street and Constitution Avenue, NW, Washington, DC, 20230; telephone: (202) 482-1391 or (202) 482-0649, respectively.

SUPPLEMENTARY INFORMATION:

Scope of the Order

The antidumping duty order on PET film from Korea covers shipments of all gauges of raw, pre-treated, or primed polyethylene terephthalate film, sheet, and strip, whether extruded or co-extruded. The films excluded from this order are metallized films and other finished films that have had at least one of their surfaces modified by the application of a performance-enhancing resinous or inorganic layer of more than 0.00001 inches (0.254 micrometers) thick. Roller transport cleaning film which has at least one of its surfaces modified by the application of 0.5 micrometers of SBR latex has also been ruled as not within the scope of the order. PET film is currently classifiable under Harmonized Tariff Schedule (HTS) subheading 3920.62.00.00.¹ While the HTS subheading is provided for convenience and for customs purposes, the written description remains dispositive as to the scope of the product coverage.

¹ Effective July 1, 2003, the HTS subheading 3920.62.00.00 was divided into 3920.62.00.10 (metallized PET film) and 3920.62.00.90 (non-metallized PET film).

Background

On February 2, 2005, the Department initiated and the ITC instituted sunset reviews of the antidumping duty order on PET film from Korea pursuant to section 751(c) of the Tariff Act of 1930, as amended (the Act). See Initiation of Five-year (“Sunset”) Reviews, 70 FR 5415 (February 2, 2005) and Polyethylene Terephthalate (PET) Film from Korea, Investigation No. 731-TA-459 (Second Review), 70 FR 5473 (February 2, 2005). As a result of its review, the Department found that revocation of the antidumping duty order would likely lead to continuation or recurrence of dumping, and notified the ITC of the magnitude of margins likely to prevail were the order to be revoked. See Polyethylene Terephthalate Film from Korea; Five year (Sunset) Reviews of Antidumping Duty Order; Final Results, 70 FR 53627 (September 9, 2005). On October 3, 2005, the ITC determined, pursuant to section 751(c) of the Act, that revocation of the antidumping duty order on PET film from Korea would likely lead to continuation or recurrence of material injury to an industry in the United States within a reasonably foreseeable time. See USITC Publication 3800 (September 2005) and Polyethylene Terephthalate (PET) Film from Korea, Investigation No. 731-TA-459 (Second Review), 70 FR 58748 (October 7, 2005).

Determination

As a result of the determinations by the Department and the ITC that revocation of the antidumping duty order would likely lead to continuation or recurrence of dumping and material injury to an industry in the United States, pursuant to section 751(d)(2) of the Act, the Department hereby orders the continuation of the antidumping duty order on PET film from Korea. U.S. Customs and Border Protection will continue to collect antidumping duty cash deposits at the rates in effect at the time of entry for all imports of subject merchandise.

The effective date of continuation of this order will be the date of publication in the Federal Register of this Notice of Continuation. Pursuant to section 751(c)(2) of the Act, the Department intends to initiate the next five-year review of this order not later than February 2010.

This five-year (sunset) review and notice are in accordance with section 751(c) of the Act and published pursuant to section 777(i)(1) of the Act.

Dated: October 14, 2005.
Joseph A. Spetrini,
Acting Assistant Secretary for Import Administration.

[FR Doc. E5-5792 Filed 10-19-05; 8:45 am]

BILLING CODE 3510-DS-S